DEPARTMENT OF THE INTERIOR

Fish and Wildlife Service

[FWS-R8-ES-2024-N064; FXES11130800000-245-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered or threatened species under the Endangered Species Act. We invite the public and local, State, Tribal, and Federal agencies to comment on these applications. Before issuing any of the requested permits, we will take into consideration any information that we receive during the public comment period.

DATES: We must receive your written comments on or before January 16, 2025.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Tiffany Heitz, Regional Recovery Permit Coordinator, U.S. Fish and Wildlife Service, 2800 Cottage Way, Room W-2606, Sacramento, CA 95825.

FOR FURTHER INFORMATION CONTACT: Tiffany Heitz, via phone at 916-414-6489, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the permit requests in table 1 are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Table 1—Permit Applications Received
Application No. | Applicant, city, state | Species | Location | Take activity | Permit action
PER10235675 | Alex Hirth, Berkeley, California | • California tiger salamander (Ambystoma californiense) Santa Barbara County and Sonoma County distinct population segments | CA | Survey, capture, handle, swab, and release | New.
843381 | Sonoma-Mendocino Coast District State Park, Mendocino, California | • Myrtle's silverspot butterfly (Speyeria zerene myrtleae) | CA | Pursue and conduct habitat restoration | Amend.
PER11848759 | Kelsea Loescher, San Marcos, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect resting eggs | New.
205609 | Lawrence Kobernus, San Francisco, California | • California tiger salamander (Ambystoma californiense) Sonoma County distinct population segment • San Francisco garter snake (Thamnophis sirtalis tetrataenia) | CA | Survey, capture, handle, swab, and release | Renew.
094318 | Jessica Vinje, Escondido, California | • Orcutt's spineflower (Chorizanthe orcuttiana) • Salt marsh bird's-beak (Cordylanthus maritimus maritimus). • Willowy monardella (Monardella viminea) | CA | Collect | Renew.
027422 | Brian T. Pittman. Rohnert Park, California | • Conservancy fairy shrimp (Branchinecta conservatio) • Longhorn fairy shrimp (Branchinecta longiantenna) • Vernal pool tadpole shrimp (Lepidurus packardi) • California tiger salamander (Ambystoma californiense) Sonoma County distinct population segment • San Francisco garter snake (Thamnophis sirtalis tetrataenia) | CA | Survey, capture, handle, swab, release, collect adult vouchers, and collect resting eggs | Renew.
041668 | Cleveland National Forest, San Diego, California | • Southwestern willow flycatcher (Empidonax traillii extimus) • Arroyo toad (Anaxyrus californicus) • San Diego button-celery (Eryngium aristulatum var. parishii) • Nevin's barberry (Berberis nevenii) • Slender-horned spineflower (Dodecahema leptoceras) • San Bernardino bluegrass (Poa atropurpurea) • Braunton's milk-vetch (Astragalus brauntonii) • Munz's onion (Allium munzii) | CA | Survey, capture, handle, swab, release, and collect | Renew and amend.
PER12435078 | Cailan Patel, Concord, California | • Foothill yellow-legged frog (Rana boylii) South Sierra and South Coast distinct population segments | CA | Survey, capture, handle, swab, and release | New.
PER4775159 | Andrew Kort, La Mesa, California | • Quino checkerspot butterfly (Euphydryas editha quino) | CA | Pursue | New.
32232D | Sara Snyder, Grover Beach, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | Renew.
PER12736199 | Stephen L Peterson, Grover Beach, California | • California tiger salamander (Ambystoma californiense) Santa Barbara County and Sonoma County distinct population segments | CA | Survey, capture, handle, swab, and release | New.
027427 | Jeff Alvarez, Sacramento, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Foothill yellow-legged frog (Rana boylii), South Sierra and South Coast distinct population segments | CA | Survey, capture, handle, swab, and release | Renew and amend.
808241 | Sonoma County Water Agency, Santa Rosa, California | • California tiger salamander (Ambystoma californiense) Santa Barbara County and Sonoma County distinct population segments • California freshwater shrimp (Syncaris pacifica) | CA | Survey, capture, handle, swab, and release | Renew.
30023C | Joshua Zinn, La Mesa, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect resting eggs | Renew.
102310 | Mitchell Dallas, Morro Bay, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, collect and hydrate resting eggs | Renew.
29522A | Kenneth Gilliland, Ventura, California | • California tiger salamander (Ambystoma californiense) Santa Barbara County distinct population segment | CA | Collect tail clips for genetic samples | Amend.
217402 | Julie Love, Santa Barbara, California | • Tidewater goby (Eucyclogobius newberryi) | CA | Survey, capture, handle, photograph (as vouchering tool), release, and collect voucher specimens | Renew.
217401 | Cristina Slaughter, Santa Ynez, California | • Tidewater goby (Eucyclogobius newberryi) | CA | Survey, capture, handle, and release | Renew.
797999 | Merkel & Associates, Inc., San Diego, California | • Tidewater goby (Eucyclogobius newberryi) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) • Light-footed Ridway's rail (Rallus longirostris levipes) • Unarmored threespine stickleback (Gasterosteus aculeatus williamsoni) • Southwestern willow flycatcher (Empidonax traillii extimus) | CA | Survey, pursue, capture, handle, release, collect adult vouchers, and collect resting eggs | Renew.
13639B | Anastasia Ennis, San Francisco, California | • Salt marsh harvest mouse (Reithrodontomys raviventris) • California Ridway's rail (Rallus longirostris obsoletus) | CA | Survey, capture, handle, mark, take hair and tissue samples, and release | Renew and amend.
PER13461767 | Port of Los Angeles, San Pedro, California | • California least tern (Sterna antillarum browni) | CA | Survey, locate and monitor nests, and mark nests | New.
68599D | San Diego Zoo Wildlife Alliance, San Diego, California | • Laguna Mountains skipper (Pyrgus ruralis lagunae) | CA | Release all life stages | Amend.
PER0002928 | Fresno Chaffee Zoo, Fresno, California | • Blunt-nosed leopard lizard (Gambelia silus) | CA | Survey, capture, handle, and release | Amend.
08087D | Jonathan Walker, San Diego, California | • Quino checkerspot butterfly (Euphydryas editha quino) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, pursue, capture, handle, release, collect adult vouchers, and collect resting eggs | Renew.
42300D | Kelli Camara, Soquel, California | • Foothill yellow-legged frog (Rana boylii), South Coast distinct population segment • Santa Cruz long-toed salamander (Ambystoma macrodactylum croceum) | CA | Survey, capture, handle, swab, release, rescue, and relocate | Renew and amend.
PER13593542 | Brian Nissen, San Ramon, California | • California tiger salamander (Ambystoma californiense) Santa Barbara County distinct population segment | CA | Survey, capture, handle, swab, and release | New.
31349D | University of California, Santa Barbara, California | • Mountain yellow-legged frog (Rana mucosa), Southern California distinct population segment • Mountain yellow-legged frog (Rana mucosa), Northern California distinct population segment • Sierra Nevada yellow-legged frog (Rana sierrae) • Arroyo toad (Anaxyrus californicus) | CA | Survey, capture, handle, swab, collect mucosome samples, clip toes, and release; and collect tadpole specimens | Renew and amend.
788133 | Vincent Scheidt, San Diego, California | • Quino checkerspot butterfly (Euphydryas editha quino) | CA | Survey, pursue, capture, handle, and release | Renew.
817397 | John Storrer, Santa Barbara, California | • California tiger salamander (Ambystoma californiense) Santa Barbara County and Sonoma County distinct population segments | CA | Survey, capture, handle, collect tissue samples, collect voucher specimens, and release | Renew.
135948 | Natalie Brodie, San Diego, California | • Quino checkerspot butterfly (Euphydryas editha quino) | CA | Survey, pursue, capture, handle, and release | Renew.
134338 | Brenna Ogg, San Diego, California | • Quino checkerspot butterfly (Euphydryas editha quino) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, pursue, capture, handle, release, collect adult vouchers, and collect resting eggs | Renew and amend.
62708B | Mary Halterman, Onyx, California | • Southwestern willow flycatcher (Empidonax traillii extimus) | CA | Survey | Renew.
036499 | National Park Service—Golden Gate National Recreation Area, San Francisco, California | • San Francisco garter snake (Thamnophis sirtalis tetrataenia) | CA | Survey, capture, handle, temporarily hold in captivity, transport, mark, conduct telemetry, collect biological samples, and release | Amend.
92167B | San Francisco Zoological Society, San Francisco, California | • Foothill yellow-legged frog (Rana boylii), South Coast and South Sierra distinct population segments • San Francisco garter snake (Thamnophis sirtalis tetrataenia) • California tiger salamander (Ambystoma californiense) Santa Barbara County and Sonoma County distinct population segments | CA, NV | Transport, captive-rear, provide veterinary treatment and husbandry, take biological samples, mark, provide disease treatment and immunization, hold for educational display, release, sacrifice, and necropsy | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials, will be made available for public disclosure in their entirety.

Next Steps

If we decide to issue permits to any of the applicants listed in this notice, we will publish a notice in the Federal Register.

Authority

We publish this notice under section 10(c) of the Endangered Species Act of 1973, as amended (16 U.S.C. 1531 et seq.).

Angela Picco,
Regional Threatened and Endangered Species Lead, Ecological Services, Pacific Southwest Region, Sacramento, California.

[FR Doc. 2024-29643 Filed 12-16-24; 8:45 am]

BILLING CODE 4333-15-P